DEPARTMENT OF TRANSPORTATION

Pipeline and Hazardous Materials Safety Administration

[Docket No. PHMSA-2022-0073]

Pipeline Safety: Information Collection Activities

AGENCY: Pipeline and Hazardous Materials Safety Administration (PHMSA), DOT.

ACTION: Notice and request for comments.

SUMMARY: In accordance with the Paperwork Reduction Act of 1995, Public Law 104-13, PHMSA invites public comments on the Agency's intention to request Office of Management and Budget (OMB) approval to renew three information collections that are scheduled to expire on January 31, 2023. PHMSA has reviewed each information collection and considers them vital to maintaining pipeline safety. As such, PHMSA will request renewal from OMB, without change, for each information collection.

DATES: Interested persons are invited to submit comments on or before August 15, 2022.

ADDRESSES: Comments may be submitted in the following ways:

E-Gov Website: http://www.regulations.gov. This site allows the public to submit comments on any Federal Register notice issued by any agency.

Fax: 1-202-493-2251.

Mail: Docket Management Facility; U.S. Department of Transportation (DOT), 1200 New Jersey Avenue SE, West Building, Room W12-140, Washington, DC 20590-0001.

Hand Delivery: Room W12-140 on the ground level of DOT, West Building, 1200 New Jersey Avenue SE, Washington, DC, between 9:00 a.m. and 5:00 p.m., Monday through Friday, except Federal holidays.

Instructions: Identify the docket number, PHMSA-2022-0073, at the beginning of your comments. Note that all comments received will be posted without change to http://www.regulations.gov, including any personal information provided. You should know that anyone is able to search the electronic form of all comments received into any of our dockets by the name of the individual submitting the comment (or signing the comment, if submitted on behalf of an association, business, labor union, etc.). Therefore, you may want to review DOT's complete Privacy Act Statement in the Federal Register published on April 11, 2000, (65 FR 19477) or visit http://www.regulations.gov before submitting any such comments.

Docket: For access to the docket or to read background documents or comments, go to http://www.regulations.gov at any time or to Room W12-140 on the ground level of DOT, West Building, 1200 New Jersey Avenue SE, Washington, DC, between 9:00 a.m. and 5:00 p.m., Monday through Friday, except Federal holidays. If you wish to receive confirmation of receipt of your written comments, please include a self-addressed, stamped postcard with the following statement: “Comments on: PHMSA-2022-0073.” The Docket Clerk will date stamp the postcard prior to returning it to you via the U.S. mail. Please note that due to delays in the delivery of U.S. mail to Federal offices in Washington, DC, we recommend that persons consider an alternative method (internet, fax, or professional delivery service) of submitting comments to the docket and ensuring their timely receipt at DOT.

Privacy Act Statement: DOT may solicit comments from the public regarding certain general notices. DOT posts these comments, without edit, including any personal information the commenter provides, to www.regulations.gov, as described in the system of records notice (DOT/ALL-14 FDMS), which can be reviewed at www.dot.gov/privacy.

Confidential Business Information: Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as CBI. Pursuant to 49 CFR 190.343, you may ask PHMSA to give confidential treatment to information you give to the Agency by taking the following steps: (1) mark each page of the original document submission containing CBI as “Confidential”; (2) send PHMSA, along with the original document, a second copy of the original document with the CBI deleted; and (3) explain why the information you are submitting is CBI. Unless you are notified otherwise, PHMSA will treat such marked submissions as confidential under the FOIA, and they will not be placed in the public docket of this notice. Submissions containing CBI should be sent to Angela Hill, DOT, PHMSA, 1200 New Jersey Avenue SE, PHP-30, Washington, DC 20590-0001. Any commentary PHMSA receives that is not specifically designated as CBI will be placed in the public docket for this matter.

FOR FURTHER INFORMATION CONTACT: Angela Hill by telephone at 202-366-1246 or by email at Angela.Hill@dot.gov.

SUPPLEMENTARY INFORMATION: Title 5, Code of Federal Regulations (CFR) section 1320.8(d), requires PHMSA to provide interested members of the public and affected agencies the opportunity to comment on information collection and recordkeeping requests before they are submitted to OMB for approval. This notice identifies three information collection requests that PHMSA will submit to OMB for renewal and requests comment from interested parties. The three information collections (including their expiration dates) are as follows: (1) OMB control number 2137-0578, Reporting Safety-Related Conditions on Gas, Hazardous Liquid, and Carbon Dioxide Pipelines and Liquefied Natural Gas Facilities (1/31/2023); (2) OMB control number 2137-0630, Hazardous Liquid Operator Notifications (1/31/2023); and (3) OMB control number 2137-0636, Notification Requirements for Gas Transmission Pipelines (1/31/2023).

The following information is provided for these information collections: (1) Title of the information collection; (2) OMB control number; (3) Current expiration date; (4) Type of request; (5) Abstract of the information collection activity; (6) Description of affected public; (7) Estimate of total annual reporting and recordkeeping burden; and (8) Frequency of collection.

PHMSA will request a three-year term of approval for each of the following information collection activities. PHMSA requests comments on the following information:

1. Title: Reporting Safety-Related Conditions on Gas, Hazardous Liquid, and Carbon Dioxide Pipelines and Liquefied Natural Gas Facilities.

OMB Control Number: 2137-0578.

Current Expiration Date: 1/31/2023.

Type of Request: Renewal of a currently approved information collection.

Abstract: 49 CFR 191.23 and 195.55 require each operator of a pipeline facility (except master meter operators) to submit to PHMSA a written report on any safety-related condition that causes or has caused a significant change or restriction in the operation of a pipeline facility or a condition that is a hazard to life, property or the environment. This information collection supports the PHMSA strategic goal of safety by reducing the number of incidents in natural gas, hazardous liquid, and carbon dioxide pipelines as well as in liquefied natural gas facilities.

Affected Public: Operators of Natural Gas, Hazardous Liquid, and Carbon Dioxide Pipelines and Liquefied Natural Gas Facilities.

Annual Reporting and Recordkeeping Burden:

Total Annual Responses: 174.

Total Annual Burden Hours: 1,044.

Frequency of Collection: On occasion.

2. Title: Hazardous Liquid Operator Notifications.

OMB Control Number: 2137-0630.

Current Expiration Date: 1/31/2023.

Type of Request: Renewal of a currently approved information collection.

Abstract: The pipeline safety regulations contained within 49 CFR part 195 require hazardous liquid operators to notify PHMSA in various instances. Section 195.414 requires hazardous liquid operators who are unable to inspect their pipeline facilities within 72 hours of an extreme weather event to notify the appropriate PHMSA Region Director as soon as practicable. Section 195.452 requires operators of pipelines that cannot accommodate an in-line inspection tool to file a petition in compliance with Section 190.9. These mandatory notifications help PHMSA to stay abreast of issues related to the health and safety of the nation's pipeline infrastructure.

Affected Public: Hazardous liquid pipeline operators.

Annual Reporting and Recordkeeping Burden:

Estimated number of responses: 110.

Estimated annual burden hours: 125.

Frequency of Collection: On occasion.

3. Title: Notification Requirements for Gas Transmission Pipelines.

OMB Control Number: 2137-0636.

Current Expiration Date: 1/31/2023.

Type of Request: Renewal of a currently approved information collection.

Abstract: The pipeline safety regulations contained within 49 CFR part 192 require operators to make various notifications upon the occurrence of certain events. Section 192.506(g) requires that operators who use alternative technologies or evaluation processes when conducting spike hydrostatic pressure tests to notify PHMSA at least 90 days in advance. Section 192.607(e)(4) specifies the reporting requirements associated with the expanded sampling and testing programs required (under § 192.607(e)) when sampling of unknown material properties on onshore steel transmission pipelines identify unknown or unexpected materials. Section 192.607(e)(5) requires that operators who use alternative statistical sampling approaches when verifying unknown materials properties to notify PHMSA at least 90 days in advance and provide information about the alternative program.

Section 192.624(b)(4) allows operators to petition for an extension of the completion deadlines to reconfirm maximum allowable operating pressure (MAOP) by up to one year if they provide an up-to-date plan, the reason for the requested extension, current status, completion date, remediation activities outstanding, and other factors. Section 192.624(c)(2)(iii) requires that operators notify PHMSA when they choose to use a less conservative pressure reduction factor or longer look-back period when reconfirming MAOP under § 192.624(c). Section 192.624(c)(3)(iii)(A) requires operators to notify PHMSA at least 90 days in advance when using an “other technology” besides those enumerated in § 192.624(c)(3) for reconfirming MAOP using engineering critical assessment and analysis.

Section 192.624(c)(6) requires operators to notify PHMSA at least 90 days in advance of using an alternative technical evaluation process in reconfirming MAOP in onshore steel transmission pipelines. Section 192.712(e)(2)(i)(E) allows operators to use other appropriate Charpy energy values (other than those specified in § 192.712(e)(2)(i)) if they notify PHMSA in advance.

Section 192.921(a)(7) requires operators to notify PHMSA (and applicable state and local authorities) at least 90 days in advance of using alternative baseline integrity assessment methods. Section 192.937(c)(7) requires operators to notify PHMSA (and applicable state and local authorities) at least 90 days in advance of using alternative ongoing integrity assessment methods.

These mandatory notifications help PHMSA to stay abreast of issues related to the health and safety of the nation's pipeline infrastructure. These notification requirements are necessary to ensure safe operation of transmission pipelines, ascertain compliance with gas pipeline safety regulations, and to provide a background for incident investigations.

Affected Public: Operators of natural gas transmission pipelines.

Estimated number of responses: 722.

Estimated annual burden hours: 1,070.

Frequency of collection: On occasion.

Comments are invited on:

(a) The need for the renewal and revision of these collections of information for the proper performance of the functions of the Agency, including whether the information will have practical utility;

(b) The accuracy of the Agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Authority: The Paperwork Reduction Act of 1995; 44 U.S.C. chapter 35, as amended; and 49 CFR 1.48.

Issued in Washington, DC, on June 10, 2022, under authority delegated in 49 CFR 1.97.
John A. Gale,
Director, Standards and Rulemaking Division.

[FR Doc. 2022-12972 Filed 6-15-22; 8:45 am]

BILLING CODE 4910-60-P